DEPARTMENT OF THE INTERIOR

Office of Surface Mining Reclamation and Enforcement

Black Mesa and Kayenta Mines, Life-of-Mine Plans and Water Supply Project, Coconino, Navajo, and Mohave Counties, AZ, and Clark County, NV

AGENCY: Office of Surface Mining Reclamation and Enforcement, Interior.

ACTION: Extension of the scoping comment period for an environmental impact statement.

SUMMARY: Pursuant to the National Environmental Policy Act of 1969 (NEPA), the Office of Surface Mining Reclamation and Enforcement (OSM) is extending the scoping comment period for the Black Mesa Project environmental impact statement (EIS). The Black Mesa Project includes Peabody Western Coal Company's proposed operation and reclamation plans for the Black Mesa and Kayenta coal mines; the Coal Slurry Preparation Plant at the Black Mesa Mine; the reconstruction of the 273-mile long Coal Slurry Pipeline across northern Arizona from the Coal Slurry Preparation Plant to the Mohave Generating Station (electrical) in Laughlin, Nevada; the construction and operation of water wells in the Coconino aquifer (C-aquifer) northwest of Winslow, Arizona; and construction and operation of a water supply pipeline running about 120 miles across the Navajo and Hopi Reservations from the wells to the Coal Slurry Preparation Plant.

DATES: Written comments must be received by OSM by 4 p.m. on March 4, 2005, to ensure consideration in the preparation of the draft EIS.

ADDRESSES: Comments may be submitted in writing or by e-mail. At the top of your letter or in the subject line of your e-mail message, please indicate that the comments are “BMK EIS Comments.”

• E-mail comments should be sent to: BMK-EIS@osmre.gov.

• Written comments sent by first-class or priority U.S. Postal Service should be mailed to: Richard Holbrook, Chief, Southwest Branch, OSM WRCC, P.O. Box 46667, Denver, Colorado 80201-6667

• Comments delivered by U.S. Postal Service Express Mail or by courier service should be sent to: Richard Holbrook, Chief, Southwest Branch OSM WRCC, 1999 Broadway, Suite 3320, Denver, Colorado 80202-5733

FOR FURTHER INFORMATION CONTACT: Richard Holbrook, Chief, Southwest Branch, Program Support Division, OSM Western Regional Coordinating Center, by telephone at (303) 844-1400, extension 1491, or by e-mail at BMK-EIS@osmre.gov.

SUPPLEMENTARY INFORMATION: On December 1, 2004, OSM published in the Federal Register a notice of intent to prepare an EIS for the Black Mesa Project and to hold public scoping meetings (69 FR 69951).

OSM held eight scoping meetings to solicit public comments on the scope of the EIS and significant issues that should be addressed in the EIS. Due to the complex nature of the project and numerous concerns expressed during the scoping meetings, OSM is extending the scoping comment period.

The Black Mesa Project includes Peabody Western Coal Company's proposed operation and reclamation plans for the Black Mesa and Kayenta coal mines; the Coal Slurry Preparation Plant at the Black Mesa Mine; the reconstruction of the 273-mile long Coal Slurry Pipeline across northern Arizona from the Coal Slurry Preparation Plant to the Mohave Generating Station (electrical) in Laughlin, Nevada; the construction and operation of water wells in the Coconino aquifer (C-aquifer) northwest of Winslow, Arizona; and construction and operation of a water supply pipeline running about 120 miles across the Navajo and Hopi Reservations from the wells to the Coal Slurry Preparation Plant. At www.wrcc.osmre.gov/bmk-eis, interested persons may view information about the proposed projects.

In accordance with the Council on Environmental Quality's regulations for implementing NEPA, 40 CFR Parts 1500 through 1508, OSM solicits public comments on the scope of the EIS and significant issues that it should address in the EIS.

Written comments, including email comments, should be sent to OSM at the addresses given in the ADDRESSES section of this notice. Comments should be specific and pertain only to the issues relating to the proposals. OSM will include all comments in the administrative record.

If you would like to be placed on the mailing list to receive future information, please contact the person listed in the section, FOR FURTHER INFORMATION CONTACT, above.

OSM will make comments, including names and addresses of respondents, available for public review during normal business hours. OSM will not consider anonymous comments. If individual respondents request confidentiality, OSM will honor their requests to the extent allowable by law. Individual respondents who wish to withhold their name or address (except for the city or town) from public review must state this prominently at the beginning of their comments and must submit their comments by regular mail. All submissions from organizations or businesses and from individuals identifying themselves as representatives or officials of organizations or businesses will be available for public review in their entirety.

Dated: January 27, 2005.
Allen D. Klein,
Regional Director, Western Regional Coordinating Center.

[FR Doc. 05-2180 Filed 2-3-05; 8:45 am]

BILLING CODE 4310-05-P